DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than February 19, 2001.

Interested persons are invited to submit written comments regarding the subject matter of the investigations to the Director, Division of Trade Adjustment Assistance, at the address shown below, not later than February 19, 2001.

The petitions filed in this case are available for inspection at the Office of the Director, Division of Trade Adjustment Assistance, Employment and Training Administration, U.S. Department of Labor, Room C-5311, 200 Constitution Avenue, NW., Washington, DC 20210.

Signed at Washington, DC this 9th day of January, 2001.
Edward A. Tomchick,
Director, Division of Trade Adjustment Assistance.

Appendix
[Petitions Instituted on 01/09/01]
TA-W | Subject firm (petitioners) | Location | Date of petition | Product(s)
38,507 | Dresser Wayne Division (UAW) | Salisbury, MD | 12/20/00 | Fuel Dispenser Pumps.
38,508 | VF Imagewear (Comp) | North Wilkesboro, NC | 12/18/00 | Jersey and Fleece Apparel.
38,509 | Brown Packing Co., Inc. (Comp) | Little Rock, AR | 12/29/00 | Slaughter Hogs.
38,510 | VF Imagewear (Comp) | Tampa, FL | 12/18/00 | Jersey and Fleece Apparel.
38,511 | VF Imagewear/Red Kap (Comp) | Antlers, OK | 12/19/00 | Men's Work Clothing.
38,512 | VF Imagewear/Red Kap (Comp) | Clarksville, TX | 12/19/00 | Men's Work Clothing.
38,513 | Comodata, Inc. (Wrks) | Birmingham, AL | 12/20/00 | Data Entry.
38,514 | NuTone, Inc. (Wrks) | Coppell, TX | 12/21/00 | Range Hoods.
38,515 | Permanent Label (Wrks) | Clifton, NJ | 12/14/00 | Graphics on Bottles.
38,516 | Owens-Brockway, Inc. (GMP) | Fulton, NY | 12/01/00 | Glass Bottles.
38,517 | Cooper-Standard Auto. (Wrks) | Mio, MI | 12/21/00 | Tube Bending Machines.
38,518 | Beltex Corp. (Wrks) | New Tazewell, TN | 12/20/00 | Men and Boys Underwear.
38,519 | Kwikset Corp. (Comp) | Anaheim, CA | 12/18/00 | Finished Latches.
38,520 | Auburn Steel Co., Inc. (Comp) | Lemont, IL | 12/18/00 | Concrete Reinforcement Bars.
38,521 | Burnt River Forest Prod. (Wrks) | Unity, OR | 12/22/00 | Lumber.
38,522 | Red Wing Products Inc. (Comp) | Brentwood, NY | 12/14/00 | Plastic Hangers.
38,523 | Morris Materials Handling (USWA) | Oak Creek, WI | 12/20/00 | Overhead Cranes and Hoists.
38,524 | Quaker Oats Co (BCTGM) | Shiremanstown, PA | 12/20/00 | Cereal.
38,525 | O-Z/Gedney (Comp) | Pittston, PA | 12/18/00 | Electrical Fittings.
38,526 | Victor Equipment Co. (Comp) | Abilene, TX | 12/21/00 | Welding Equipment.
38,527 | Price Pfister (Wrks) | Pacoima, CA | 12/12/00 | Faucets.
38,528 | Griffin Wheel Co (Wrks) | Bessemer, AL | 12/21/00 | Steel Railroad Wheels.
38,529 | Ametek/Prestolite (Comp) | Decatur, AL | 12/20/00 | Motors and Switches.
38,530 | Fletcher Corp. (Comp) | Alpena, MI | 12/21/00 | Free Sheet Printing Paper.

[FR Doc. 01-3303 Filed 2-7-01; 8:45 am]

BILLING CODE 4510-30-M